Proclamation 8551 of August 31, 2010

National Ovarian Cancer Awareness Month, 2010

By the President of the United States of America

A Proclamation

While we have made great strides in the battle against ovarian cancer, this disease continues to claim more lives than any other gynecologic cancer. During National Ovarian Cancer Awareness Month, we honor all those lost to and living with ovarian cancer, and we renew our commitment to developing effective screening methods, improving treatments, and ultimately defeating this disease.

Each year, thousands of women are diagnosed with, and go on to battle valiantly against, this disease. Yet, ovarian cancer remains difficult to detect, and women are often not diagnosed until the disease has reached an advanced stage. I encourage all women—especially those with a family history of ovarian cancer or breast cancer, and those over age 55—to protect their health by understanding risk factors and discussing possible symptoms, including abdominal pain, with their health care provider. Women and their loved ones may also visit Cancer.gov for more information about the symptoms, diagnosis, and treatment of ovarian and other cancers.

Across the Federal Government, we are working to promote awareness of ovarian cancer and advance its diagnosis and treatment. The National Cancer Institute, the Centers for Disease Control and Prevention, and the Department of Defense all play vital roles in reducing the burden of this illness through critical investments in research. Earlier this year, I was proud to sign into law the landmark Affordable Care Act (ACA), which includes provisions to help women living with ovarian cancer. The ACA eliminates annual and lifetime limits on benefits, creates a program for those who have been denied health insurance because of a pre-existing condition, and prohibits insurance companies from canceling coverage after individuals get sick. The ACA also requires that women enrolling in new insurance plans and those covered by Medicare or Medicaid receive free preventive care—including women’s health services and counseling related to certain genetic screenings that identify increased risks for ovarian cancer. In addition, the ACA prohibits new health plans from dropping coverage if an individual chooses to participate in a potentially life-saving clinical trial, or from denying coverage for routine care simply because an individual is enrolled in such a trial.

During National Ovarian Cancer Awareness Month and throughout the year, I commend all the brave women fighting this disease, their families and friends, and the health care providers, researchers, and advocates working to reduce this disease’s impact on our Nation. Together, we can improve the lives of all those affected and create a healthier future for all our citizens.

NOW, THEREFORE, I, BARACK OBAMA, President of the United States of America, by virtue of the authority vested in me by the Constitution and the laws of the United States, do hereby proclaim September 2010 as National Ovarian Cancer Awareness Month. I call upon citizens, government agencies, organizations, health care providers, and research institutions to raise ovarian cancer awareness and continue helping Americans live longer, healthier lives.

IN WITNESS WHEREOF, I have hereunto set my hand this thirty-first day of August, in the year of our Lord two thousand ten, and of the Independence of the United States of America the two hundred and thirty-fifth.

[FR Doc. 2010-22427

Filed 9-3-10; 11:15 am]

Billing code 3195-W0-P